DEPARTMENT OF DEFENSE

Defense Federal Acquisition Regulations System

48 CFR Parts 205, 207, 208, 209, 211, 215, 216, 217, 219, 225, 228, 232, 237, 246, 250, and 252

RIN 0750-AG41

Defense Federal Acquisition Regulation Supplement; Inflation Adjustment of Acquisition-Related Thresholds (DFARS Case 2009-D003)

AGENCY: Defense Acquisition Regulations System, Department of Defense (DoD).

ACTION: Final rule.

SUMMARY: DoD is issuing a final rule amending the Defense Federal Acquisition Regulation Supplement (DFARS) to implement the recurring requirement of section 807 of the Ronald W. Reagan National Defense Authorization Act for Fiscal Year 2005. Section 807 provides for adjustment every 5 years of statutory acquisition-related thresholds, except for Davis-Bacon Act, Service Contract Act, and trade agreements thresholds. This final rule also adjusts some non-statutory acquisition-related thresholds.

DATES: Effective Date: October 1, 2010.

FOR FURTHER INFORMATION CONTACT: Ms. Amy Williams, 703-602-0328.

SUPPLEMENTARY INFORMATION:

A. Background

The first review of DFARS acquisition-related thresholds to implement section 807 of the Ronald W. Reagan National Defense Authorization Act for Fiscal Year 2005 (Pub. L. 108-375) was conducted under DFARS Case 2004-D022 during fiscal year 2005. The final DFARS rule was published in the Federal Register on December 19, 2006 (71 FR 75891).

This is the second review of DFARS acquisition-related thresholds. DoD published a proposed rule on January 20, 2010 (75 FR 3187). The preamble to the proposed rule contained a detailed explanation of—

• What an acquisition-related threshold is;

• Which acquisition-related thresholds are not subject to escalation adjustment under this case; and

• How DoD analyzes statutory and non-statutory acquisition-related thresholds.

No public comments were received.

This rule was subject to Office of Management and Budget review under Executive Order 12866, dated September 30, 1993.

B. Regulatory Flexibility Act

DoD certifies that this rule will not have a substantial economic impact on small business because the adjustment of acquisition-related thresholds for inflation just maintains the status quo. No comments were received regarding impact on small business.

C. Paperwork Reduction Act

The Paperwork Reduction Act does apply. The proposed changes to the DFARS do not impose new information collection requirements that require the approval of the Office of Management and Budget under 44 U.S.C. 3501, et seq. They maintain the following information collection requirements at the status quo by adjusting the thresholds for inflation:

0704-0229—Defense Federal Acquisition Regulation Supplement Part 225, Foreign Acquisition, and Related Clauses at 252.225. (DFARS 252.225-7003, 252.225-7004, 252.225-7006)

0704-0187—Information Collection in Support of the DoD Acquisition Process (Solicitation Phase) (DFARS 252.209-7001 and 252.209-7004)

List of Subjects in 48 CFR Parts 205, 207, 208, 209, 211, 215, 216, 217, 219, 225, 228, 232, 237, 246, 250, and 252

Government procurement.

Ynette R. Shelkin,
Editor, Defense Acquisition Regulations System.

Therefore, 48 CFR parts 205, 207, 208, 209, 211, 215, 216, 217, 219, 225, 228, 232, 237, 246, 250, and 252 are amended as follows:

1. The authority citation for 48 CFR parts 205, 207, 208, 209, 211, 215, 216, 217, 219, 225, 228, 232, 237, 246, 250, and 252 continues to read as follows:

Authority: 41 U.S.C. 421 and 48 CFR chapter 1.

PART 205—PUBLICIZING CONTRACT ACTIONS

§ 205.303 [Amended]

2. Section 205.303 is amended by removing “$5.5 million” and adding in its place “$6.5 million” in the following places:

a. In paragraph (a)(i) introductory text, in the first and second sentences;

b. In paragraph (a)(i)(A), in the second sentence; and

c. In paragraph (a)(i)(B), in the first and second sentences.

PART 207—ACQUISITION PLANNING

207.170-3 [Amended]

3. Section 207.170-3 is amended in paragraph (a) introductory text by removing “$5.5 million” and adding in its place “$6 million”.

PART 208—REQUIRED SOURCES OF SUPPLIES AND SERVICES

208.405-70 [Amended]

4. Section 208.405-70 is amended by removing “$100,000” and adding in its place “$150,000” in the following places:

a. Paragraph (b) in the introductory text; and

b. Paragraph (c) in the introductory text.

PART 209—CONTRACTOR QUALIFICATIONS

209.104-1 [Amended]

5. Section 209.104-1 is amended in paragraph (g)(i)(A) introductory text by removing “$100,000” and adding in its place “$150,000”.

209.104-70 [Amended]

6. Section 209.104-70 is amended in paragraph (a) by removing “$100,000” and adding in its place “$150,000”.

209.409 [Amended]

7. Section 209.409 is amended by removing “$100,000” and adding in its place “$150,000”.

PART 211—DESCRIBING AGENCY NEEDS

211.503 [Amended]

8. Section 211.503 is amended in paragraph (b), in the first and second sentences, by removing “$550,000” and adding in its place “$650,000”.

PART 215—CONTRACTING BY NEGOTIATION

215.407-2 [Amended]

9. Section 215.407-2 is amended in paragraph (e)(1) by removing “$1 million” and adding in its place “$1.5 million”.

PART 216—TYPES OF CONTRACTS

216.505-70 [Amended]

10. Section 216.505-70 is amended by removing “$100,000” and adding in its place “$150,000” in the following places:

a. In paragraph (a)(2);

b. In paragraph (b) introductory text; and

c. In paragraph (c) introductory text.

PART 217—SPECIAL CONTRACTING METHODS

11. Section 217.170 is amended by revising paragraph (e)(1)(i) to read as follows:

217.170 General.

* * * * *

(e)(1) * * *

(i) Exceed $500 million for supplies (see 217.172(d); and 217.172(f)(3)) or $625.5 million for services (see 217.171(a)(6);

* * * * *

217.171 [Amended]

12. Section 217.171 is amended in paragraph (a)(6) by removing “$572.5 million” and adding in its place “$625.5 million”.

PART 219—SMALL BUSINESS PROGRAMS

13. Section 219.201 is amended by revising paragraph (d)(10)(A) to read as follows:

219.201 General policy.

(d) * * *

(10) * * *

(A) Reviewing and making recommendations for all acquisitions (including orders placed against Federal Supply Schedule contracts) over $10,000, except those under the simplified acquisition threshold that are totally set aside for small business concerns in accordance with FAR 19.502-2. Follow the procedures at PGI 219.201(d)(10) regarding such reviews.

* * * * *

219.502-1 [Amended]

14. Section 219.502-1 is amended in paragraph (2) by removing “$300,000” and adding in its place “$350,000”.

219.502-2 [Amended]

15. Section 219.502-2 is amended in paragraphs (a)(ii) and (a)(iii) by:

a. Removing “$1 million” from paragraph (a)(ii) and adding in its place “$1.5 million”; and

b. Removing “$300,000” from paragraph (a)(iii) and adding in its place “$350,000”.

219.1005 [Amended]

16. Section 219.1005 is amended in paragraphs (a)(i)(B), (a)(i)(C), and (a)(i)(D) by removing “$300,000” and adding in its place “$350,000”.

PART 225—FOREIGN ACQUISITION

225.103 [Amended]

17. Section 225.103 is amended in paragraphs (a)(ii)(B)(2), (a)(ii)(B)(3), (b)(ii)(B), and (b)(ii)(C) by removing “$1,000,000” and adding in its place “$1.5 million”.

225.7204 [Amended]

18. Section 225.7204 is amended as follows:

a. In paragraphs (a) and (b) by removing “$11.5 million” and adding in its place “$12.5 million”.

b. In paragraph (c) by removing “$550,000” and adding in its place “$650,000”.

225.7703-2 [Amended]

19. Section 225.7703-2 is amended in paragraphs (b)(2)(i) and (b)(2)(ii) by removing “$78.5 million” and adding in its place “$85.5 million”.

PART 228—BONDS AND INSURANCE

228.102-1 [Amended]

20. Section 228.102-1 is amended in paragraph (1) by removing “$100,000” and adding in its place “$150,000”.

PART 232—CONTRACT FINANCING

232.404 [Amended]

21. Section 232.404 is amended in paragraph (a)(9) by removing “$3,000” and adding in its place “the micro-purchase threshold”.

232.502-1 [Amended]

22. Section 232.502-1 is amended in paragraph (b)(1) by removing “$55,000” and adding in its place “$65,000”.

PART 237—SERVICE CONTRACTING

237.170-2 [Amended]

23. Section 237.170-2 is amended in paragraphs (a)(1) and (2) by removing “$78.5 million” and adding in its place “$85.5 million”.

PART 246—QUALITY ASSURANCE

246.402 [Amended]

24. Section 246.402 is amended in the introductory text by removing “$250,000” and adding in its place “$300,000”.

PART 250—EXTRAORDINARY CONTRACTUAL ACTIONS AND THE SAFETY ACT

250.102-1

25. Section 250.102-1 is amended in paragraph (b) by removing “$55,000” and adding in its place “$65,000”.

250.102-1-70 [Amended]

26. Section 250.102-1-70 is amended in paragraph (b)(1) by removing “$55,000” and adding in its place “$65,000”.

PART 252—SOLICITATION PROVISIONS AND CONTRACT CLAUSES

252.211-7000 [Amended]

27. Section 252.211-7000 is amended as follows:

a. By revising the clause date to read “(OCT 2010)”; and

b. In paragraph (d) by removing “$1 million” and adding in its place “$1.5 million”.

252.225-7003 [Amended]

28. Section 252.225-7003 is as follows:

a. By revising the clause date to read “(OCT 2010)”;

b. In paragraph (b)(1) by removing “$11.5 million” and adding in its place “$12.5 million”; and

c. In paragraph (b)(2)(i) by removing “$550,000” and adding in its place “$650,000”.

252.225-7004 [Amended]

29. Section 252.225-7004 is amended as follows:

a. By revising the clause date to read “(OCT 2010)”; and

b. In paragraph (b)(1) by removing “$550,000” and adding in its place “$650,000”.

252.225-7006 [Amended]

30. Section 252.225-7006 is amended as follows:

a. By revising the clause date to read “(OCT 2010)”; and

b. In paragraph (f)(1) by removing $550,000” and adding in its place $650,000”.

252.249-7002 [Amended]

31. Section 252.249-7002 is amended as follows:

a. By revising the clause date to read “(OCT 2010)”;

b. In paragraph (d)(1) by removing $550,000” and adding in its place “$650,000”; and

c. In paragraphs (d)(2)(i) and (ii) by removing “$100,000” and adding in its place “$150,000”.

[FR Doc. 2010-18738 Filed 7-30-10; 8:45 am]

BILLING CODE 5001-08-P